DEPARTMENT OF HEALTH AND HUMAN SERVICES

Centers for Disease Control and Prevention

[30Day-25-1092]

Agency Forms Undergoing Paperwork Reduction Act Review

In accordance with the Paperwork Reduction Act of 1995, the Centers for Disease Control and Prevention (CDC) has submitted the information collection request titled “Sudden Death in the Young” to the Office of Management and Budget (OMB) for review and approval. CDC previously published a “Proposed Data Collection Submitted for Public Comment and Recommendations” notice on June 16, 2025 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Sudden Death in the Young (OMB Control No. 0920-1092, Exp. 9/30/2025) Extension—National Center for Chronic Disease Prevention and Health Promotion (NCCDPHP), Centers for Disease Control and Prevention (CDC).

Background and Brief Description

Estimates of the annual incidence of Sudden Death in the Young (SDY) vary broadly due to differences in case definitions, inconsistencies in classifying cause of death on death certificates, study populations, and case ascertainment. To address the need for improved estimates of SDY incidence and its epidemiology based on uniform cases definitions, CDC, in collaboration with NIH's National Heart, Lung, and Blood Institute (NHLBI) and National Institute of Neurological Disorders and Stroke (NINDS), implemented the SDY Case Registry in 2015. To meet the ongoing need to produce accurate and uniform information, CDC, and NIH continued the SDY Case Registry in 2018 with 13 recipients through a CDC-based cooperative agreement program (DP18-1806). In 2023, a new cooperative agreement program was started with 12 recipients (DP23-0006) and was launched by CDC with continued support from NIH. The current Revision seeks to revise burden hour estimates, modify responses for data elements collected, and to extend OMB approval for a period of three years.

CDC recipients agree to compile a defined set of SDY information about a defined subset of child deaths through the jurisdiction's/state's existing CDR program. CDC estimates that the 12 participating state/jurisdictions will collect data on approximately 606 SDY cases per year. Each of the 12 CDC-funded state/jurisdiction awardees will, on average, review and enter data on 51 of 606 cases each year. Burden is estimated for reporting required case information. It is estimated that approximately half (303) of the estimated 606 SDY cases will undergo advanced clinical review by a team of three medical experts.

OMB approval is requested for three years. The total estimated annual burden is 438 hours which is a decrease of 73 hours from the previously approved information collection request due to a decrease in the number of participating states/local jurisdictions from 13 to 12. There are no costs to respondents other than their time.

Estimated Annualized Burden Hours
Type of respondents | Form name | Number of respondents | Number of responses per respondent | Average burden per response (in hours)
State Health Personnel | SDY Module I | 12 | 51 | 10/60
Medical Expert | Advanced Review | 36 | 26 | 15/60
State Health Personnel | SDY Module N | 12 | 51 | 10/60

Jeffrey M. Zirger,
Lead, Information Collection Review Office, Office of Public Health Ethics and Regulations, Office of Science, Centers for Disease Control and Prevention.

[FR Doc. 2025-17257 Filed 9-8-25; 8:45 am]

BILLING CODE 4163-18-P